ENVIRONMENTAL PROTECTION AGENCY

40 CFR Part 52

[NH-042-7169b; A-1-FRL-6871-1]

Approval and Promulgation of Air Quality Implementation Plans; New Hampshire, New Hampshire—Nitrogen Oxides Budget and Allowance Trading Program

AGENCY: Environmental Protection Agency (EPA)

ACTION: Proposed rule.

SUMMARY: The EPA is proposing to approve State Implementation Plan (SIP) revisions submitted by the State of New Hampshire (NH). The revisions consists of adding CHAPTER Env-A 3200 NOX BUDGET TRADING PROGRAM, NOX RACT Order 98-001, and two emission quantification protocols to the NH SIP. The regulations and source specific order in NH are part of a regional nitrogen oxides (NOX) emissions budget and allowance trading program designed to reduce stationary source NOX emissions during the ozone season in the Ozone Transport Region of the northeastern United States. These SIP revisions were submitted pursuant to section 110 of the Clean Air Act. In the Final Rules section of this Federal Register EPA is approving the State's SIP submittal as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time.

DATES: Written comments must be received on or before December 14, 2000.

ADDRESSES: Comments may be mailed to David Conroy, Unit Manager, Air Quality Planning, Office of Ecosystem protection (mail code CAQ), U.S. Environmental Protection Agency, EPA-New England, One Congress Street, Suite 1100, Boston, MA 02114-2023. Copies of the State submittal and EPA's technical support document are available for public inspection during normal business hours, by appointment at the Office of Ecosystem Protection, U.S. Environmental Protection Agency, Region I, One Congress Street, 11th floor, Boston, MA, and at the New Hampshire Air Resources Division, Department of Environmental Services, 6 Hazen Drive, P.O. Box 95, Concord, NH 03301.

FOR FURTHER INFORMATION CONTACT: Dan Brown, (617) 918-1532 or at brown.dan@epa.gov.

SUPPLEMENTARY INFORMATION: For additional information, see the direct final rule which is located in the Rules section of this Federal Register.

Dated: September 6, 2000.
Mindy S. Lubber,
Regional Administrator, EPA-New England.

[FR Doc. 00-28708 Filed 11-13-00; 8:45 am]

BILLING CODE 6560-50-P